NEIGHBORHOOD REINVESTMENT CORPORATION

Regular Board of Directors Meeting; Sunshine Act

TIME AND DATE: 10 a.m., Monday, March 22, 2010.

PLACE: 1325 G Street, NW., Suite 800 Boardroom, Washington, DC 20005.

STATUS: Open.

CONTACT PERSON FOR MORE INFORMATION: Erica Hall, Assistant Corporate Secretary, (202) 220-2376; ehall@nw.org.

Agenda

I. Call to Order

II. Approval of the Minutes

III. Summary Report of the Corporate Administration Committee

IV. Approval of the Minutes

V. Summary Report of the Audit Committee

VI. Approval of the Minutes

VII. Summary Report of the Finance, Budget and Program Committee

VIII. Summary Report of the Corporate Administration Committee

IX. Approval of Grants Exceeding One Million Dollars

X. Financial Report

XI. Corporate Scorecard

XII. NHSA Update

XIII. Chief Executive Officer's Quarterly Management Report

XIV. Adjournment

Erica Hall,
Assistant Corporate Secretary.

[FR Doc. 2010-6154 Filed 3-19-10; 8:45 am]

BILLING CODE 7570-02-M